DEPARTMENT OF COMMERCE

International Trade Administration

[A-533-809]

Certain Stainless Steel Flanges From India

AGENCY: Import Administration, International Trade Administration, Department of Commerce.

ACTION: Extension of time limit for final results of new shipper review.

SUMMARY: The Department of Commerce (the Department) is extending the time limit for the final results of a new shipper review of certain stainless steel flanges from India. This review covers one Indian exporter, Bhansali Ferromet Pvt. Ltd. (Bhansali), and the period August 1, 1998 through July 31, 1999.

EFFECTIVE DATE: December 5, 2000.

FOR FURTHER INFORMATION CONTACT: Thomas Killiam or Robert James, AD/CVD Enforcement, Import Administration, International Trade Administration, U.S. Department of Commerce, 14th Street and Constitution Avenue, NW, Washington DC 20230; telephone: (202) 482-5222, or (202) 482-0649, respectively.

Applicable Statute

Unless otherwise indicated, all citations to the statute refer to the provisions effective January 1, 1995, the effective date of the amendments made to the Tariff Act of 1930, as amended (the Tariff Act) by the Uruguay Round Agreements Act. In addition, all citations to the Department's regulations are to the current regulations, codified at 19 CFR Part 351 (1999).

Background

Based on a request from Bhansali, and pursuant to section 351.214, the Department initiated a new shipper review of the antidumping duty order on certain stainless steel flanges from India, covering the period February 1, 1999 through February 29, 2000 (65 FR 8120, February 17, 2000). The final results are currently due no later than December 14, 2000. The deadline for the final results may be extended from 90 to 150 days after the issuance of the preliminary results, according to section 751(a)(2)(B)(iv) of the Tariff Act and 351.214(i)(2) of the Department's regulations.

Postponement of Final Results

The Department has determined that the issues of this case are extraordinarily complicated and it is not practicable to issue the final results of the new shipper review within the original time limit. See Memorandum from Richard A. Weible to Joseph A. Spetrini, Deputy Assistant Secretary, Enforcement Group III, November 22, 2000. Accordingly, the Department is extending the time limit for completion of the final results of this review until February 12, 2001, the first business day following the sixtieth day from the issuance of the preliminary results.

Dated: November 22, 2000.
Edward Yang,
Acting Deputy Assistant Secretary, AD/CVD Enforcement Group III.

[FR Doc. 00-30953 Filed 12-4-00; 8:45 am]

BILLING CODE 3510-DS-P